DEPARTMENT OF TRANSPORTATION

Federal Aviation Administration

14 CFR Part 39

[Docket No. FAA-2021-0369; Project Identifier 2019-SW-033-AD; Amendment 39-21673; AD 2021-16-11]

RIN 2120-AA64

Airworthiness Directives; Airbus Helicopters

AGENCY: Federal Aviation Administration (FAA), DOT.

ACTION: Final rule.

SUMMARY: The FAA is adopting a new airworthiness directive (AD) for certain Airbus Helicopters Model AS350B, AS350BA, AS350B1, AS350B2, AS350B3, AS350D, AS355E, AS355F, AS355F1, AS355F2, AS355N, and AS355NP helicopters. This AD was prompted by a report of reduced yaw control, during an approach for landing, that resulted from rupture of the tail rotor gearbox (TGB) actuating rod and uncoupling of the steel sleeve from inside the external aluminum tube. This AD requires dye penetrant inspecting certain TGB actuating rods for a crack, and depending on the inspection results, replacing the TGB actuating rod, as specified in a European Union Aviation Safety Agency (EASA) AD, which is incorporated by reference. The FAA is issuing this AD to address the unsafe condition on these products.

DATES: This AD is effective October 6, 2021.

The Director of the Federal Register approved the incorporation by reference of a certain publication listed in this AD as of October 6, 2021.

ADDRESSES: For material incorporated by reference (IBR) in this AD, contact the EASA, Konrad-Adenauer-Ufer 3, 50668 Cologne, Germany; telephone +49 221 8999 000; email ADs@easa.europa.eu; internet www.easa.europa.eu. You may find this material on the EASA website at https://ad.easa.europa.eu. You may view this material at the FAA, Office of the Regional Counsel, Southwest Region, 10101 Hillwood Pkwy., Room 6N-321, Fort Worth, TX 76177. For information on the availability of this material at the FAA, call 817-222-5110. It is also available in the AD docket on the internet at https://www.regulations.gov by searching for and locating Docket No. FAA-2021-0369.

Examining the AD Docket

You may examine the AD docket on the internet at https://www.regulations.gov by searching for and locating Docket No. FAA-2021-0369; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Kathleen Arrigotti, Program Manager, Large Aircraft Section, International Validation Branch, Compliance & Airworthiness Division, FAA, 2200 South 216th St., Des Moines, WA 98198; telephone and fax (206) 231-3218; email kathleen.arrigotti@faa.gov.

SUPPLEMENTARY INFORMATION:

Background

The EASA, which is the Technical Agent for the Member States of the European Union, has issued EASA AD 2019-0060, dated March 20, 2019 (EASA AD 2019-0060) (also referred to as the Mandatory Continuing Airworthiness Information, or the MCAI), to correct an unsafe condition for all Airbus Helicopters Model AS350 B, AS350 BA, AS350 BB, AS350 B1, AS350 B2, AS350 B3, AS350 D, AS355 E, AS355 F, AS355 F1, AS355 F2, AS355 N and AS355 NP helicopters. Model AS350 BB helicopters are not certificated by the FAA and are not included on the U.S. type certificate data sheet; this AD therefore does not include those helicopters in the applicability. Although EASA AD 2019-0060 applies to all helicopters identified in EASA AD 2019-0060, this AD applies to helicopters with an affected part installed instead.

The FAA issued a notice of proposed rulemaking (NPRM) to amend 14 CFR part 39 by adding an AD that would apply to certain Airbus Helicopters Model AS350B, AS350BA, AS350B1, AS350B2, AS350B3, AS350D, AS355E, AS355F, AS355F1, AS355F2, AS355N, and AS355NP helicopters. The NPRM published in the Federal Register on May 18, 2021 (86 FR 26857). The NPRM was prompted by a report of reduced yaw control, during an approach for landing, that resulted from rupture of the TGB actuating rod and uncoupling of the steel sleeve from inside the external aluminum tube. The NPRM proposed to require dye penetrant inspecting certain TGB actuating rods for a crack, and depending on the inspection results, replacing the TGB actuating rod, as specified in an EASA AD.

The FAA is issuing this AD to address failure of a TGB actuating rod, which could result in loss of yaw control of the helicopter. See the MCAI for additional background information.

Discussion of Final Airworthiness Directive

Comments

The FAA gave the public the opportunity to participate in developing this final rule. The following presents the comment received on the NPRM and the FAA's response to the comment.

Request To Not Refer to Other Sources for Approved Data

A commenter requested that the proposed AD not reference a European AD or service bulletin as approved data. The commenter stated the proposed AD should contain all the data required to perform the inspection in its entirety so that an inspector does not have to research data from other sources.

The FAA does not agree with the commenter because the approved data is available to inspectors. EASA AD 2019-0060 is incorporated by reference. Incorporation by reference (IBR) allows Federal agencies to comply with the requirement to publish rules in the Federal Register by referring to materials already published elsewhere. The legal effect of IBR is that the material is treated as if it were published in the Federal Register. This material, like any other properly issued rule, has the force and effect of law. Congress authorized IBR in the Freedom of Information Act (5 U.S.C. 552), in part, to reduce the volume of material published in the Federal Register and the Code of Federal Regulations (CFR).

After an FAA final rule is published, the required service information is then posted to https://www.regulations.gov. EASA AD 2019-0060 and the service information specified in EASA AD 2019-0060 that is required for compliance with EASA AD 2019-0060 can be found on the internet at https://www.regulations.gov by searching for and locating Docket No. FAA 2021-0369. The FAA has not changed this AD in this regard.

Conclusion

The FAA reviewed the relevant data, considered the comment received, and determined that air safety and the public interest require adopting this final rule as proposed, except for minor editorial changes. The FAA has determined that these minor changes:

• Are consistent with the intent that was proposed in the NPRM for addressing the unsafe condition; and

• Do not add any additional burden upon the public than was already proposed in the NPRM.

Related Service Information Under 1 CFR Part 51

EASA AD 2019-0060 describes procedures for dye penetrant inspecting certain TGB actuating rods for a crack, and depending on the inspection results, replacing the TGB actuating rod. EASA AD 2019-0060 also describes procedures for marking each TGB actuating rod, reporting information, and for certain helicopters, ensuring the correct interface between certain TGB actuating rods and bearings.

This material is reasonably available because the interested parties have access to it through their normal course of business or by the means identified in the ADDRESSES section.

Differences Between This AD and the MCAI

EASA AD 2019-0060 specifies “AS350 SB [service bulletin] No. 67.10 Revision 1” and “AS355 SB No. 67.09 Revision 2” as Airbus Helicopters (AH) service bulletins; however this AD identifies those service bulletins as Aerospatiale service bulletins.

EASA AD 2019-0060 specifies the date for “AS355 SB No. 67.09 Revision 2,” as “March 28, 1989;” however, this AD identifies the date as “October 1989.”

Part Marking Clarification

Where paragraph (2) of EASA AD 2019-0060 specifies “mark each affected part (all rods, regardless of the status with respect to the dye penetrant inspection),” this AD requires marking TGB actuating rods identified in paragraphs (c)(1) through (9) of this AD regardless of their manufacturing date. The manufacturing dates in Table 1 of EASA AD 2019-0060 are used only to indicate the parts on which the dye penetrant inspection specified in paragraph (1) of EASA AD 2019-0060 is done; the manufacturing dates do not impact the parts on which the marking specified in paragraph (2) of EASA AD 2019-006 must be done.

Interim Action

The FAA considers this AD interim action. If final action is later identified, the FAA might consider further rulemaking then.

Costs of Compliance

The FAA estimates that this AD affects 950 helicopters of U.S. registry. The FAA estimates the following costs to comply with this AD:

Estimated Costs for Required Actions *
Labor cost | Parts cost | Cost per product | Cost on U.S. operators
6 work-hours × $85 per hour = $510 | $0 | $510 | $484,500
* Table does not include estimated costs for reporting.

The FAA estimates that it would take about 1 hour per product to comply with the reporting requirement in this AD. The average labor rate is $85 per hour. Based on these figures, the FAA estimates the cost of reporting the inspection results on U.S. operators to be $80,750, or $85 per product.

The FAA estimates the following costs to do any necessary on-condition actions that would be required based on the results of any required actions. The FAA has no way of determining the number of helicopters that might need these on-condition actions:

Estimated Costs of On-Condition Actions
Labor cost | Parts cost | Cost per product
Up to 16 work-hours × $85 per hour = $1,360 | $2,590 | Up to $3,950

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to Information Collection Clearance Officer, Federal Aviation Administration, 10101 Hillwood Pkwy., Fort Worth, TX 76177-1524.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-16-11 Airbus Helicopters: Amendment 39-21673; Docket No. FAA-2021-0369; Project Identifier 2019-SW-033-AD.

(a) Effective Date

This airworthiness directive (AD) is effective October 6, 2021.

(b) Affected ADs

None.

(c) Applicability

This AD applies to Airbus Helicopters Model AS350B, AS350BA, AS350B1, AS350B2, AS350B3, AS350D, AS355E, AS355F, AS355F1, AS355F2, AS355N, and AS355NP helicopters, certificated in any category, with a tail rotor gearbox (TGB) actuating rod identified in paragraphs (c)(1) through (9) of this AD installed.

(1) Part number (P/N) 350A27191000;

(2) P/N 350A27191001;

(3) P/N 350A27191002;

(4) P/N 350A27191003;

(5) P/N 350A27191004;

(6) P/N 350A2719100401;

(7) P/N 350A2719100402;

(8) P/N 350A27192000; or

(9) A TGB actuating rod with an unknown part number and serial number.

(d) Subject

Joint Aircraft System Component (JASC) Code: 6720, Tail Rotor Control System.

(e) Reason

This AD was prompted by a report of reduced yaw control, during an approach for landing, that resulted from rupture of the TGB actuating rod and uncoupling of the steel sleeve from inside the external aluminum tube. The FAA is issuing this AD to address failure of a TGB actuating rod, which could result in loss of yaw control of the helicopter.

(f) Compliance

Comply with this AD within the compliance times specified, unless already done.

(g) Requirements

Except as specified in paragraph (h) of this AD: Comply with all required actions and compliance times specified in, and in accordance with, European Union Aviation Safety Agency (EASA) AD 2019-0060, dated March 20, 2019 (EASA AD 2019-0060).

(h) Exceptions to EASA AD 2019-0060

(1) Where EASA AD 2019-0060 refers to January 3, 2019 (the effective date of EASA AD 2018-0287, dated December 20, 2018), or its effective date, this AD requires using the effective date of this AD.

(2) Where EASA AD 2019-0060 refers to flight hours (FH), this AD requires using hours time-in-service.

(3) Where paragraph (2) of EASA AD 2019-0060 specifies to mark TGB actuating rods, replace the language in paragraph (2) of EASA AD 2019-0060 that states “the instructions of section 3 of the applicable ASB [alert service bulletin],” with the applicable language specified in paragraphs (h)(3)(i) and (ii) of this AD.

(i) For P/N 350A2719100402 and parts not included in table 1 of EASA AD 2019-0060: “the instructions for `If only paragraph 3.B.2.a. was complied with' of paragraph 3.C. of the Accomplishment Instructions of the applicable ASB.”

(ii) For parts included in table 1 of EASA AD 2019-0060: “the instructions for `If paragraph 3.B.2.b. or paragraph 3.B.5. was complied with' of paragraph 3.C. of the Accomplishment Instructions of the applicable ASB.”

(4) Where paragraph (2) of EASA AD 2019-0060 specifies “mark each affected part (all rods, regardless of the status with respect to the dye penetrant inspection), and each TGB rod having P/N 350A2719100402,” for this AD, mark the parts identified in paragraphs (c)(1) through (9) of this AD.

(5) Where EASA AD 2019-0060 specifies “AH [Airbus Helicopters] AS350 SB [service bulletin] No. 67.10 Revision 1” and “AH AS355 SB No. 67.09 Revision 2,” replace the text “AH” with “Aerospatiale.”

(6) Where the “Ref. Publications” section of EASA AD 2019-0060 specifies the date for “AS355 SB No. 67.09 Revision 2,” replace the text “28 March 1989” with “October 1989.”

(7) Although service information referenced in EASA AD 2019-0060 specifies to keep parts, this AD does not include that requirement.

(8) Paragraph (7) of EASA AD 2019-0060 specifies to report inspection results to Airbus Helicopters within a certain compliance time. For this AD, report inspection results at the applicable time specified in paragraph (h)(8)(i) or (ii) of this AD.

(i) If the inspection was done on or after the effective date of this AD: Submit the report within 30 days after the inspection.

(ii) If the inspection was done before the effective date of this AD: Submit the report within 30 days after the effective date of this AD.

(9) For the purposes of this AD, “CW,” which is stated in Table 1 of EASA AD 2019-0060, is defined as calendar week.

(10) The “Remarks” section of EASA AD 2019-0060 does not apply to this AD.

(i) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to: Manager, International Validation Branch, FAA, 10101 Hillwood Pkwy., Fort Worth, TX 76177; telephone (817) 222-5110. Information may be emailed to: 9-AVS-AIR-730-AMOC@faa.gov.

(2) Before using any approved AMOC, notify your appropriate principal inspector, or lacking a principal inspector, the manager of the local flight standards district office/certificate holding district office.

(j) Related Information

For more information about this AD, contact Kathleen Arrigotti, Program Manager, Large Aircraft Section, International Validation Branch, Compliance & Airworthiness Division, FAA, 2200 South 216th St., Des Moines, WA 98198; telephone and fax (206) 231-3218; email kathleen.arrigotti@faa.gov.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2019-0060, dated March 20, 2019.

(ii) [Reserved]

(3) For EASA AD 2019-0060, contact the EASA, Konrad-Adenauer-Ufer 3, 50668 Cologne, Germany; telephone +49 221 8999 000; email ADs@easa.europa.eu; internet www.easa.europa.eu. You may find this EASA AD on the EASA website at https://ad.easa.europa.eu.

(4) You may view this service information at the FAA, Office of the Regional Counsel, Southwest Region, 10101 Hillwood Pkwy., Room 6N-321, Fort Worth, TX 76177. For information on the availability of this material at the FAA, call 817-222-5110. This material may be found in the AD docket on the internet at https://www.regulations.gov by searching for and locating Docket No. FAA-2021-0369.

(5) You may view this material that is incorporated by reference at the National Archives and Records Administration (NARA). For information on the availability of this material at NARA, email fedreg.legal@nara.gov, or go to https://www.archives.gov/federal-register/cfr/ibr-locations.html.

Issued on August 25, 2021.
Gaetano A. Sciortino,
Deputy Director for Strategic Initiatives, Compliance & Airworthiness Division, Aircraft Certification Service.

[FR Doc. 2021-18753 Filed 8-31-21; 8:45 am]

BILLING CODE 4910-13-P